ENVIRONMENTAL PROTECTION AGENCY

[FRL OP-OFA-131]

Environmental Impact Statements; Notice of Availability

Responsible Agency: Office of Federal Activities, General Information 202-564-5632 or https://www.epa.gov/nepa.

Weekly receipt of Environmental Impact Statements (EIS)

Filed June 10, 2024 10 a.m. EST Through June 14, 2024 6 p.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240106, Final, USAF, TX, T-7A Recapitalization at Laughlin Air Force Base, Texas, Review Period Ends: 07/22/2024, Contact: Chinling Chen 210-652-4400.

EIS No. 20240107, Final, APHIS, CA, California Wildlife Damage Management EIR-EIS, Review Period Ends: 07/22/2024, Contact: Jeffrey Flores 916-979-2675.

EIS No. 20240108, Final Supplement, BLM, CO, Proposed Resource Management Plan and Final Supplemental Environmental Impact Statement for Colorado River Valley Field Office and Grand Junction Field Office, Review Period Ends: 07/22/2024, Contact: Heather Sauls 970-878-3855.

EIS No. 20240109, Final, BLM, CA, Proposed Northwest California Integrated Resource Management Plan (NCIP), Review Period Ends: 07/22/2024, Contact: Chad Endicott 530-224-2140.

EIS No. 20240110, Draft, USFS, NAT, Land Management Plan Direction for Old-Growth Forest Conditions Across the National Forest System, Comment Period Ends: 09/20/2024, Contact: Jennifer McRae 202-791-8488.

EIS No. 20240111, Draft Supplement, FTA, MN, METRO Blue Line Light Rail Extension Project, Comment Period Ends: 08/05/2024, Contact: Anthony Greep 312-353-1645.

EIS No. 20240112, Draft, CHSRA, CA, Link Union Station Project Draft Environmental Impact Statement/Supplemental Environmental Impact Report, Comment Period Ends: 08/09/2024, Contact: Stefan Galvez-Abadia 916-324-1541.

Dated: June 17, 2024.
Nancy Abrams,
Associate Director, Office of Federal Activities.

[FR Doc. 2024-13596 Filed 6-20-24; 8:45 am]

BILLING CODE 6560-50-P